DEPARTMENT OF AGRICULTURE

Agricultural Marketing Service

[Document Number AMS-FTPP-19-0064]

United States Warehouse Act Administrative Fees

AGENCY: Agricultural Marketing Service, USDA.

ACTION: Notice.

SUMMARY: The Agricultural Marketing Service (AMS) is announcing the fees it will charge warehouse operators for voluntary services associated with the administration of the United States Warehouse Act. This action establishes the license action fees, service license fees, inspection fees, and annual user fees for warehouse services for fiscal year 2020, which begins October 1, 2019. AMS is increasing all these fees by approximately 10 percent to ensure fee levels are sufficient to cover the full cost of program administration.

DATES: August 2, 2019.

FOR FURTHER INFORMATION CONTACT: Dan Schofer, AMS, U.S. Department of Agriculture, Room 2530-S, 1400 Independence Avenue SW, Washington, DC 20250; telephone (202) 260-2434, or email dan.schofer@usda.gov.

SUPPLEMENTARY INFORMATION: The United States Warehouse Act (USWA), as amended (7 U.S.C. 241 et seq.), provides for the licensing of public warehouse operators in the business of storing agricultural products, examination of such federally licensed warehouses, and collection of fees to sustain the operation and administration of such efforts. Participation in USWA program is voluntary. Participants may choose to obtain licensing under USWA to meet State or other industry requirements. Warehouse examinations provided by AMS examine the financial status of the operation, the integrity of the commodities stored in licensed facilities, as well as the facilities themselves.

This notice announces new fees for licensing and examining warehouses storing export food aid commodities, grain, nuts, sweeteners, wool, cotton, cottonseed and dry beans. The new fees will be effective for fiscal year 2020 (FY 2020), which begins October 1, 2019. AMS is raising the license action fees, service license fees, inspection fees, and annual user fees charged to licensed warehouses to assure recovery of operational costs projected for USWA activities in FY 2020. The FY 2020 fee adjustment reflects an approximately 10 percent increase over the current rates that have not been adjusted since 2006. AMS finds it necessary to increase fees to meet projected costs for administering the USWA program.

The regulations that effectuate the USWA are codified at 7 CFR part 735 mandate the collection of fees for costs of administering the USWA program and authorize annual rate changes, as necessary. USDA last amended the annual operational fee for warehouse operators effective January 1, 2006 (70 FR 71262; November 28, 2005). The 2006 operational fees were 5% higher than the previous rates. USDA most recently amended USWA licensing and inspection fees effective October 1, 1998 (63 FR 35186; June 29, 1998). Fee increases at that time were approximately 7.5 percent over the previous rates.

In November of 2018, the Secretary of Agriculture delegated administration of USWA programs to AMS (83 FR 61309; November 29, 2018). Previously, the administration of the USWA was delegated to the Farm Service Agency (FSA). During 2019, AMS projected a funding deficit associated with current program staff levels. Fees must cover all expenses for USWA administrative services including the maintenance of a sufficient operating reserve. Thus, rates for USWA services for the 2020 fiscal year and beyond demonstrate a remedial action to correct the budgetary shortfall for administration of the program. USWA requires that AMS operate in an environment suitable to affect the needs of the program and mitigate any funding risks.

The fees reflect direct and indirect costs of providing services. Direct costs include the cost of salaries, employee benefits, and, if applicable, travel and some operating costs. Indirect or overhead costs include the cost of AMS administrative activities supporting the services provided to the industry. Program costs also include maintaining an operating reserve and, depending on the balance in the reserve, may provide for adding to or drawing down the reserve to assure an appropriate balance is maintained.

Delegation of Authority

The Secretary of Agriculture delegated to the Under Secretary for Marketing and Regulatory Programs (MRP) authority to “administer the U.S. Warehouse Act, as amended (7 U.S.C. 241-273) . . .” 7 CFR 2.22(a)(1)(xiv). The Under Secretary for MRP previously redelegated authority to administer the USWA to the Administrator of the Farm Service Agency. A rule published November 29, 2018 (83 FR 61309) transferred delegated authority to administer the USWA to the AMS Administrator. See 7 CFR 2.79(a)(21). The delegation to the Under Secretary of MRP related to administration of the U.S. Warehouse Act at 7 CFR 2.22(a)(1)(xiv) remain unchanged. The AMS Administrator has authority to administer USWA programs, including publication of this Notice. A separate Rule addresses the delegation and authority of the AMS Administrator to revise the USWA Regulations.

New Rates

The schedule below sets out all the relevant fees for licensing and examination services and reflects the necessary increases.

United States Warehouse Act
7 CFR Part 735—Regulations for the United States Warehouse Act Subpart A—General Provisions § 735 Fees: FEE TABLE—UNITED STATES WAREHOUSE ACT (Effective 10/1/2019) | 7 CFR Part 735—Regulations for the United States Warehouse Act Subpart A—General Provisions § 735 Fees: FEE TABLE—UNITED STATES WAREHOUSE ACT (Effective 10/1/2019): License action fee | 7 CFR Part 735—Regulations for the United States Warehouse Act Subpart A—General Provisions § 735 Fees: FEE TABLE—UNITED STATES WAREHOUSE ACT (Effective 10/1/2019): Inspection fee | 7 CFR Part 735—Regulations for the United States Warehouse Act Subpart A—General Provisions § 735 Fees: FEE TABLE—UNITED STATES WAREHOUSE ACT (Effective 10/1/2019): Annual user fees: Annual fee | 7 CFR Part 735—Regulations for the United States Warehouse Act Subpart A—General Provisions § 735 Fees: FEE TABLE—UNITED STATES WAREHOUSE ACT (Effective 10/1/2019): Annual user fees: Locations
Export Food Aid Commodities | $110 | $1,100 for 1 to 3 locations | $1,650 for | 1 to 3.
|  | $330 for each location over 3 | $330 for each | location over 3.

| License action fee | Service license fee | Inspection fee | Annual user fees: Licensed capacities (in bushels) | Annual user fees: Annual fee for each warehouse location with a CCC storage agreement | Annual user fees: Annual fee for each warehouse location without a CCC storage agreement
Grain | $90 | $40 | $19 for each 10,000 bushels. MIN $190; MAX $1,900 | 1-150,000 150,001-250,000 250,001-500,000 500,001-750,000 750,001-1,000,000 1,000,001-1,200,000 1,200,001-1,500,000 1,500,001-2,000,000 2,000,001-2,500,000 2,500,001-5,000,000 5,000,001-7,500,000 7,500,001-10,000,000 10,000,001+ | $170 340 500 675 840 1,010 1,180 1,340 1,515 1,680 1,855 2,025 * 2,025 | $340 680 1,000 1,350 1,680 2,020 2,360 2,680 3,030 3,360 3,710 4,050 ** 4,050
|  |  |  | * Plus $55 per million bushels above 10,000,000, or fraction thereof.
|  |  |  | ** Plus $105 per million bushels above 10,000,000, or fraction thereof.

| License action fee | Service license fee | Inspection fee | Annual user fees: Licensed capacities (in short tons) | Annual user fees: Annual fee for each warehouse location with a CCC storage agreement | Annual user fees: Annual fee for each warehouse location without a CCC storage agreement
Nuts | $90 | $40 | $9.35 for each 100 short tons of Peanuts. MIN $190; MAX $1,900; and $17 for each 1,000 hundredweight of other nuts; MIN $190; MAX $1,900 | 1-4,500 4,501-7,500 7,501-15,000 15,001-22,500 22,501-30,000 30,001-36,000 36,001-45,000 45,001-60,000 60,001-75,000 75,001-150,000 150,001-225,000 225,001+ | $275 450 640 820 995 1,165 1,340 1.515 1,690 1,860 2,025 * 2,195 | $550 900 1,280 1,640 1,990 2,330 2,680 3,030 3,380 3,720 4,040 ** 4,390
|  |  |  | * Plus $12 per 100 short tons above 225,000 short tons, or fraction thereof.
|  |  |  | ** Plus $21 per 100 short tons above 225,000 short tons, or fraction thereof.

| License action fee | Service license fee | Inspection fee | Annual user fees: Annual fee | Annual user fees: Licensed capacities
Sweeteners | $90 | $40 | $7.15 for each 5,000 gallons of liquid. MIN $190; MAX $1,900; or $7.15 for each 55,000 pounds of pounds of dry capacity; MIN $190; MAX $1,900 | $7.15 for each $750 MIN or $7.15 for each $750 MIN | 5,000 gallons of liquid, or fraction thereof or 55,000 pounds of dry capacity, or fraction thereof.

| License action fee | Service license fee | Inspection fee | Annual user fees: Annual fee | Annual user fees: Licensed capacities
Wool | $90 | $40 | $19 for each 100,000 pounds. MIN $190; MAX $1,900 | $19 for each. $750 MIN | 100,000 pounds, or fraction thereof.

| License action fee | Service license fee | Inspection fee | Annual user fees: Licensed capacities (in bales) | Annual user fees: Annual fee for each warehouse location with a CCC storage agreement | Annual user fees: Annual fee for each warehouse location without a CCC storage agreement
Cotton | $90 | $40 | $95 for each 1,000 bales. MIN $190; MAX $1,900 | 1-20,000 20,001-40,000 40,001-60,000 60,001-80,000 80,001-100,000 100,001-120,000 120,001-140,000 140,001-160,000 * 160,001 | $645 850 1,035 1,230 1,620 1.935 2,260 2,585 * 2,585 | $1,290 1,700 2,070 2,460 3,240 3,870 4,520 5,170 ** 5,170
|  |  |  | * Plus $65 per 5,000 bale capacity above 160,000 bales, or fraction thereof.
|  |  |  | ** Plus $130 per 5,000 bale capacity above 160,000 bales, or fraction thereof.

| License action fee | Service license fee | Inspection fee | Annual user fees: Annual fee | Annual user fees: Licensed capacities
Cottonseed | $90 | $40 | $19 for each 1,000 short tons. MIN $190; MAX $1,900 | $19 for each $750 MIN | 1,000 short tons, or fraction thereof.

| License action fee | Service license fee | Inspection fee | Annual user fees: Licensed capacities (in hundredweight) | Annual user fees: Annual fee
Dry beans | $90 | $40 | $19 for each 1,000 hundredweight. MIN $190; MAX $1,900 | 100-90,000 90,001-150,000 150,001-300,000 300,001-450,000 450,001-600,000 600,001-720,000 720,001-900,000 900,001-1,200,000 1,200,001-1,500,000 1,500,001-3,000,000 3,000,001+ | $925 1,290 1,670 2,040 2,405 2,765 3,145 3,520 3,880 4,245 * 4,620
|  |  |  | ** Plus $1.55 per 1,000 hundredweight above 3,000,000, or fraction thereof.

Authority: 7 U.S.C. 241-256.

Dated: July 29, 2019.
Greg Ibach,
Under Secretary, Marketing and Regulatory Programs.

[FR Doc. 2019-16409 Filed 7-31-19; 8:45 am]

BILLING CODE 3410-02-P